DEPARTMENT OF ENERGY

Federal Energy Regulatory Commission

[Project No. 3015-019]

Southeast Alaska Power Agency; Notice of Application for Capacity Amendment of License Accepted for Filing, Intent To Waive Stage I and Stage II Pre-Filing Consultation Requirements, Soliciting Comments, Motions To Intervene, and Protests

Take notice that the following hydroelectric application has been filed with the Commission and is available for public inspection:

a. Application Type: Application for Capacity Amendment to License.

b. Project No: 3015-019.

c. Date Filed: January 27, 2025, as Supplemented on June 12, 2025.

d. Applicant: Southeast Alaska Power Agency.

e. Name of Project: Tyee Lake Hydroelectric Project.

f. Location: The project is located on Tyee Creek in Wrangell Borough, Alaska. The project occupies federal lands administered by the U.S. Forest Service within the Tongass National Forest.

g. Filed Pursuant to: Federal Power Act, 16 U.S.C. 791a-825r.

h. Applicant Contact: Robert Siedman, Chief Executive Officer, 55 Don Finney Lane, Ketchikan, AK 99901, rsiedman@seapahydro.org, (907) 228-2281.

i. FERC Contact: Kelly Fitzpatrick, (202) 502-8435, kelly.fitzpatrick@ferc.gov.

j. Cooperating agencies: With this notice, the Commission is inviting federal, state, local, and Tribal agencies with jurisdiction and/or special expertise with respect to environmental issues affected by the proposal, that wish to cooperate in the preparation of any environmental document, if applicable, to follow the instructions for filing such requests described in item k below. Cooperating agencies should note the Commission's policy that agencies that cooperate in the preparation of any environmental document cannot also intervene. See 94 FERC ¶ 61,076 (2001).

k. Deadline for filing comments, motions to intervene, and protests: August 19, 2025.

The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, MD 20852. The first page of any filing should include the docket number P-3015-019. Comments emailed to Commission staff are not considered part of the Commission record.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

l. Description of Request: The 22.50-MW Tyee Lake Hydroelectric Project was designed and constructed with two 11.25-MW turbine-generator units and an empty bay for the future installation of a third 11.25-MW turbine-generator unit. The licensee proposes to install a third turbine-generator unit, which would increase the total installed capacity of the Project to 33.75-MW. All activities associated with installation would occur within the existing powerhouse and Project facilities already used for maintenance, repair, and other activities related to Project operation. The proposed third unit would allow the licensee to meet the current energy demands of the communities of Petersburg, Wrangell, and Ketchikan, and significantly reduce the licensee's reliance on diesel generation. The licensee is not proposing any ground disturbing activities or any changes to the environment in the project area. During the review process a discrepancy between the authorized installed capacity and nameplate capacities of the units were identified. The Commission will address this issue as part of this proceeding.

m. With this notice we intend to waive stage I and stage II pre-filing consultation requirements. A draft of the application was provided to cooperating agencies in lieu of an Initial Consultation Document. The licensee provided a Preliminary Draft Environmental Assessment in the draft of the application and requested to waive the filing of an Exhibit E (Environmental Report). The licensee also requested to waive the second stage consultation requirements found in 18 CFR 4.38 and included documentation of its communication with National Marine Fisheries Service (NMFS) and Alaska Department of Fish and Game (Alaska DFG) regarding the request in its amendment application. The licensee received letters of support for the project from NMFS and Alaska DFG. Commission staff has reviewed the documentation of consultation in the initial application and supplemental materials and find the application adequately addresses the issues such that no additional agency consultation is necessary.

n. Locations of the Application: This filing may be viewed on the Commission's website at http://www.ferc.gov using the “eLibrary” link. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. Agencies may obtain copies of the application directly from the applicant.

o. Individuals desiring to be included on the Commission's mailing list should so indicate by writing to the Secretary of the Commission.

p. Comments, Protests, or Motions To Intervene: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

q. Filing and Service of Documents: Any filing must (1) bear in all capital letters the title “COMMENTS”, “PROTEST”, or “MOTION TO INTERVENE” as applicable; (2) set forth in the heading the name of the applicant and the project number of the application to which the filing responds; (3) furnish the name, address, and telephone number of the person commenting, protesting or intervening; and (4) otherwise comply with the requirements of 18 CFR 385.2001 through 385.2005. All comments, motions to intervene, or protests must set forth their evidentiary basis. Any filing made by an intervenor must be accompanied by proof of service on all persons listed in the service list prepared by the Commission in this proceeding, in accordance with 18 CFR 385.2010.

r. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: July 18, 2025.
Debbie-Anne A. Reese,
Secretary.

[FR Doc. 2025-13870 Filed 7-22-25; 8:45 am]

BILLING CODE 6717-01-P